DEPARTMENT OF LABOR

Employment and Training Administration

[TA-W-61,188]

Randstad, Working On-Site At Merrill Lynch, Equity Research; New York, NY; Notice of Termination of Investigation

Pursuant to Section 221 of the Trade Act of 1974, as amended, an investigation was initiated on March 27, 2007 in response to a worker petition filed by a state agency representative on behalf of workers of Randstad, working on-site at Merrill Lynch, Equity Research, New York, New York.

The petitioner has requested that the petition be withdrawn. Consequently, the investigation has been terminated.

Signed at Washington, DC, this 23rd day of April 2007.
Linda G. Poole,
Certifying Officer, Division of Trade Adjustment Assistance.

[FR Doc. E7-8463 Filed 5-2-07; 8:45 am]

BILLING CODE 4510-FN-P